ENVIRONMENTAL PROTECTION AGENCY

[ER-FRL-9045-8]

Environmental Impact Statements; Notice of Availability

Responsible Agency: Office of Federal Activities, General Information 202-564-5632 or https://www.epa.gov/nepa/.

Weekly receipt of Environmental Impact Statements

Filed 07/08/2019 Through 07/12/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190161, Draft, BR, CA, Auburn State Recreation Area Preliminary General Plan and Auburn Project Lands Draft Resource Management Plan Draft Environmental Impact Report/Environmental Impact Statement, Comment Period Ends: 09/03/2019, Contact: Bonnie Van Pelt 916-537-7062

EIS No. 20190162, Draft Supplement, BLM, CA, United States Gypsum Company Expansion/Modernization Project, Imperial County, California, Comment Period Ends: 09/03/2019, Contact: Miriam Liberatore 541-618-2400

EIS No. 20190163, Draft Supplement, FAA, CA, Gnoss Field Airport Proposed Extension of Runway 13/31, Comment Period Ends: 09/06/2019, Contact: Doug Pomeroy 650-827-7612

EIS No. 20190164, Final, USFS, OR, Black Mountain Vegetation Management Project, Review Period Ends: 09/03/2019, Contact: Elysia Retzlaff 541-416-6436

EIS No. 20190165, Final, BR, OR, ADOPTION—Swan Lake North Pumped Storage Project, Review Period Ends: 08/19/2019, Contact: Kirk Young 541-880-2589

The Bureau of Reclamation has adopted the Federal Energy Regulatory Commission (FERC) Final EIS No. 20180333, filed 01/25/2019 with the EPA. Reclamation was not a cooperating agency on this project. Therefore, recirculation of the document is necessary under Section 1506.3(b) of the CEQ Regulations.

EIS No. 20190166, Draft, USACE, TX, Gulf Intracoastal Waterway, Brazos River Floodgates and Colorado River Locks, Texas, Comment Period Ends: 08/01/2019, Contact: Daniel Allen 817-886-1821

Under Section 1506.10(d) of the Council on Environmental Quality Regulations for Implementing the Procedural Provisions of the National Environmental Policy Act, the U.S. Environmental Protection Agency has Granted a 32-Day Waiver for the above EIS.

Amended Notice

EIS No. 20180157, Draft, USACE, TX, Matagorda Ship Channel, Port Lavaca, Texas, Comment Period Ends: 08/08/2019, Contact: Harmon Brown 409-766-3837

Under Section 1506.10(d) of the Council on Environmental Quality Regulations for Implementing the Procedural Provisions of the National Environmental Policy Act, the U.S. Environmental Protection Agency has Granted a 25-Day Waiver for the above EIS.

EIS No. 20190107, Draft, NMFS, REG, Draft Regulatory Amendment to Modify Pelagic Longline Bluefin Tuna Area-Based and Weak Hook Management Measures, Comment Period Ends: 09/30/2019, Contact: Jennifer Cudney 727-824-5399

Revision to FR Notice Published 05/17/2019; Extending the Comment Period from 07/31/2019 to 09/30/2019.

Dated: July 16, 2019.
Robert Tomiak,
Director, Office of Federal Activities.

[FR Doc. 2019-15431 Filed 7-18-19; 8:45 am]

BILLING CODE 6560-50-P